DEPARTMENT OF TRANSPORTATION

Federal Aviation Administration

Commercial Space Transportation Advisory Committee; Public Teleconference

AGENCY: Federal Aviation Administration (FAA), DOT.

ACTION: Notice of Commercial Space Transportation Advisory Committee Teleconference.

SUMMARY: Pursuant to Section 10(a)(2) of the Federal Advisory Committee Act (Pub. L. 92-463, 5 U.S.C. App. 2), notice is hereby given of a teleconference of the Commercial Space Transportation Advisory Committee (COMSTAC).

DATES: The teleconference will take place on Tuesday, September 24, 2013. The teleconference will begin at 1:00 p.m. Eastern Time and will last approximately one hour. The presentation and call-in number will be posted at least one week in advance at http://www.ast.faa.gov/.

FOR FURTHER INFORMATION CONTACT: Paul Eckert (AST-3), Office of Commercial Space Transportation (AST), 800 Independence Avenue SW., Room 331, Washington, DC 20591, telephone (202) 267-8655; Email paul.eckert@faa.gov. Complete information regarding COMSTAC is available on the FAA Web site at: http://www.faa.gov/about/office_org/headquarters_offices/ast/advisory_committee/.

SUPPLEMENTARY INFORMATION: The purpose of this teleconference is to assist the FAA in its development of guidelines for the safety of occupants of commercial suborbital and orbital spacecraft. On July 31, 2013, the FAA submitted to COMSTAC a draft document on Established Practices for Human Space Flight Occupant Safety for its review and comment. The document is intended to continue the conversation that we have had with COMSTAC on commercial human space flight occupant safety. The document provides what we believe are occupant safety measures that have historically proven to be worth doing for most human space flight system concepts. We plan to submit to COMSTAC a companion document in mid-September that will provide rationale for each established practice in the draft. In this teleconference the FAA will introduce these two documents, entertain early feedback from COMSTAC members, and discuss a way ahead.

Interested members of the public may submit relevant written statements for COMSTAC members to consider under the advisory process. Statements may concern the issues and agenda items mentioned above or additional issues that may be relevant for the U.S. commercial space transportation industry. Interested parties wishing to submit written statements should contact Paul Eckert, Designated Federal Officer (the person listed in the FOR FURTHER INFORMATION CONTACT section), in writing (mail or email) by September 17, 2013. This way the information can be made available to COMSTAC members for their review and consideration before the teleconference. Written statements should be supplied in the following formats: one hard copy with original signature or one electronic copy via email.

Individuals who plan to participate and need special assistance should inform the person listed in the FOR FURTHER INFORMATION CONTACT section in advance of the meeting.

Issued in Washington, DC, on August 16, 2013.
George C. Nield,
Associate Administrator for Commercial Space Transportation.

[FR Doc. 2013-21126 Filed 8-28-13; 8:45 am]

BILLING CODE 4910-13-P